DEPARTMENT OF COMMERCE

International Trade Administration

The Manufacturing Council: Work Session of the Manufacturing Council

AGENCY: International Trade Administration, U.S. Department of Commerce.

ACTION: Notice of an Open Work Session.

SUMMARY: This notice sets forth the schedule and agenda for an open work session of the Manufacturing Council (Council). The agenda may change to accommodate Council work. The final agenda will be posted on the Department of Commerce Web site for the Council at http://trade.gov/manufacturingcouncil.

DATES: May 10, 2012, 10:00 a.m.-12:00 p.m. Central Daylight Time (CDT).

ADDRESSES: The work session will be held at Freescale Austin Technology and Manufacturing Center, 3501 Ed Bluestein Boulevard, Austin, Texas. All guests are requested to register in advance. This session will be physically accessible to people with disabilities. Seating is limited and is not guaranteed. Requests for sign language interpretation, other auxiliary aids, or pre-registration, should be submitted no later than May 7, 2012, to Jennifer Pilat, the Manufacturing Council, Room 4043, 1401 Constitution Avenue NW., Washington, DC 20230, telephone 202-482-4501, OACIE@trade.gov. Last minute requests will be accepted, but may be impossible to fill.

FOR FURTHER INFORMATION CONTACT: Jennifer Pilat, the Manufacturing Council, Room 4043, 1401 Constitution Avenue NW., Washington, DC 20230, telephone: 202-482-4501, email: OACIE@trade.gov.

SUPPLEMENTARY INFORMATION:

Background: The Council was re-chartered on April 5, 2012 to advise the Secretary of Commerce on matters relating to the U.S. manufacturing industry.

Topics To Be Considered: The Council will be conducting work regarding possibly advising the Secretary regarding the Trans-Pacific Partnership Agreement negotiations and energy policy and hear updates on the work being conducted by the Council's subcommittees. The Council will also be briefed by the ex-officio members present representing the Secretaries of the Treasury, Labor, and Energy on their respective agency's work in the areas of past Council recommendations.

No time will be available for oral comments from members of the public attending the session. Any member of the public may submit pertinent written comments concerning the Council's affairs at any time before or after the session.

Comments may be submitted to Jennifer Pilat at the contact information indicated above. To be considered during the session, comments must be received no later than 5:00 p.m. Eastern Time on May 7, 2012, to ensure transmission to the Council prior to the session.

Comments received after that date will be distributed to the members but may not be considered at the session.

Dated: May 2, 2012.
Jennifer Pilat,
Executive Secretary, The Manufacturing Council.

[FR Doc. 2012-10980 Filed 5-4-12; 8:45 am]

BILLING CODE 3510-DR-P